DEPARTMENT OF THE INTERIOR

Bureau of Land Management

43 CFR Parts 3000, 3100, 3150, 3200, 3500, 3580, 3600, 3730, 3810, and 3830

[WO-610-4111-02-24 1A]

RIN 1004-AD95

Minerals Management: Adjustment of Cost Recovery Fees

AGENCY: Bureau of Land Management, Interior.

ACTION: Final rule.

SUMMARY: This final rule amends the Bureau of Land Management (BLM) mineral resources regulations to update some fees that cover the BLM's cost of processing certain documents relating to its mineral programs and some filing fees for mineral-related documents. These updates include fees for actions such as lease applications, name changes, corporate mergers, lease consolidations, and lease reinstatements. The fee changes are the BLM's continued response to recommendations made by the Department of the Interior's Office of Inspector General in a 1988 report. This report was part of a 1980s Presidential initiative, which called for all Federal agencies to charge appropriate user fees for agency services, consistent with the law. This final rule also makes some editorial corrections to the rule.

DATES: This final rule is effective October 1, 2007.

FOR FURTHER INFORMATION CONTACT: Tim Spisak, Chief, Division of Fluid Minerals, 202-452-5061, or Cynthia Ellis, Regulatory Affairs Specialist, (202) 452-5012. Persons who use a telecommunications device for the deaf (TDD) may leave a message with the Federal Information Relay Service (FIRS) at 1-800-877-8339, 24 hours a day, 7 days a week.

ADDRESSES: You may send inquiries or suggestions to Director (630), Bureau of Land Management, MS-LS 401, 1849 C Street, NW., Washington, DC 20240; Attention: RIN 1004-AD95.

SUPPLEMENTARY INFORMATION:

Background

The BLM has specific authority to charge fees for processing applications and other documents relating to public lands under Section 304 of the Federal Land Policy and Management Act of 1976 (FLPMA), 43 U.S.C. 1734. In 2005, the BLM published a final cost recovery rule (70 FR 58854) establishing or revising certain fees and service charges, and also establishing the method it would use to adjust those fees and service charges.

At 43 CFR 3000.12(a), the rule provides that the BLM will annually adjust fees established in Subchapter C according to changes in the Implicit Price Deflator for Gross Domestic Product (IPD-GDP), which is published quarterly by the U.S. Department of Commerce. (See also 43 CFR 3000.10.) Because the fee recalculations are simply based on a mathematical formula, we have changed the fees in a final rule without providing opportunity for notice and comment. This final rule will allow the BLM to update these fees and service charges by October 1 of this year, as required by the 2005 regulation. The public had opportunity to comment on this procedure during the comment period on the cost recovery rule, and this new rule simply administers the procedure set forth in those regulations. The Department of the Interior, therefore, for good cause finds under 5 U.S.C. 553(b)(B) and (d)(3) that notice and public comment procedures are unnecessary, and that the rule may be effective less than 30 days after publication.

Discussion of Final Rule

Because the 2005 cost recovery final rule did not become effective until November 7, 2005, there was not a full calendar year between the effective date and the October 1 deadline the following year for updating the fees. See 43 CFR 3000.12(a). The BLM therefore decided to issue this first fee update rule in 2007, to be effective on October 1, 2007. The fees in the 2005 rule reflect adjustments using the Implicit Price Deflator for 4th Quarter 2004. See 70 FR 58857. The fee updates that will be effective each October 1 will be based on the Implicit Price Deflator for the 4th Quarter of the preceding calendar year. This first fee update, based on the Implicit Price Deflator for 4th Quarter 2006, thus reflects inflation over eight calendar quarters. Future adjustments will reflect inflation over four calendar quarters.

While preparing this rule, we found that in compiling the fee table at 43 CFR 3000.12 for the 2005 final rule (70 FR 58854), we overlooked some already-existing filing fees. The following sections contain fees that should be reflected in the fee table: ¹

¹ This rule will not include in the fee table at 43 CFR 3000.12 the $10 filing fee for requesting publication of notice of Leasing Act filing found at 43 CFR 3742.3-1(b)(4). The BLM is in the process of drafting a proposed rule that would, among other things, propose to remove this fee. The document to which this fee pertains relates to mining claims located in 1954 and earlier; no document of this type has been filed with the BLM in recent decades. If any such document were filed, the BLM would address it under a different part.

• In subpart 3150: sections 3152.1 (application for oil and gas geophysical exploration permit (Alaska)) ² ($25) and 3152.3 (renewal of exploration permit (Alaska)) ($25)

² Section 365 of the Energy Policy Act of 2005 (Pub. L. 109-58) directed in subsection (i) that “the Secretary shall not implement a rulemaking that would enable an increase in fees to recover additional costs related to processing drilling-related permit applications and use authorizations.” In the 2005 cost recovery rule, the BLM interpreted this prohibition to apply to geophysical exploration permits. 70 FR 58854-58855. However, the $25 fees for geophysical exploration permit applications for Alaska and renewals of exploration permits for Alaska pre-dated the 2005 cost recovery rule and were not affected by the Energy Policy Act prohibition.

• In subpart 3273: sections 3273.15 (site license application) ($50) and 3273.26 (assignment or transfer of site license) ($50)

• In part 3500: sections 3510.12(b) (lease modifications or fringe acreage leases) ($25); 3512.12, 3512.13(a)(6)(iii), 3512.16(b), and 3512.17(b) (assignments, subleases, or transfer of operating rights) ($25); 3512.19 (transfer of overriding royalty) ($25); and 3516.15 (use permits) ($25)

• In part 3580: sections 3583.3 (Shasta and Trinity hardrock leases) ($25) and 3586.2 (renewal of existing sand and gravel leases in Nevada) ($25)

• In Group 3700: section 3736.2(b) (notice of protest of placer mining operations) ($10)

• In Group 3800: sections 3816.2 (application to open lands to location) ($10) and 3830.21(h) (recording a notice of intent to locate mining claims on Stockraising Homestead Act lands) ($25)

In this final rule, we moved these fees to the fee table at 43 CFR 3000.12 and included a reference to the fee table in the relevant section of the rule text. This is an administrative revision for the convenience of the reader and has no substantive effect.

We also revised sections 3211.10(a) and 3504.10, which address fees in parts 3200 and 3500, respectively, to reflect the relocation of the fees to the table at 43 CFR 3000.12. In section 3211.10(a), we added to the list the filing fees noted above. In section 3504.10, instead of separate paragraphs for filing fees and processing fees, new paragraph (a) Simply has the fee table, to which we added the filing fees and reordered the listed actions to put them in the same order as the corresponding sections in the rule text. The reference to exploration licenses that was in paragraph (a) was moved to new paragraph (b). These are also administrative revisions with no substantive effect.

Finally, we corrected minor errors in the existing rule. In section 3000.10(c), we changed the word “annually” to “quarterly” to correctly reflect the frequency of publication of the Implicit Price Deflator for Gross Domestic Product. In section 3103.1-2(a)(1), which addresses where fees should be submitted, we deleted the word “filing”, as the fees referenced include processing fees. In section 3602.11(c), we changed “as provided in section 3602.31(a)” to “as provided in section 3602.31(b)”, which is the correct cross-reference. We also changed the title of the fee table at 43 CFR 3000.12 to: “FY [YEAR] Processing and Filing Fee Table.” These are administrative revisions with no substantive effect.

The calculations that resulted in the new fees are included in the table below.

Fixed Cost Recovery Fees FY08
Document/action | Existing fee ³ | IPD-GDP increase ⁴ | New value ⁵ | New fee ⁶
Oil & Gas (parts 3100, 3110, 3120, 3130, 3150):
Noncompetitive lease application | $335 | $22.88 | $357.88 | $360
Competitive lease application | 130 | 8.88 | 138.88 | 140
Assignment and transfer of record title or operating rights | 75 | 5.12 | 80.12 | 80
Overriding royalty transfer, payment out of production | 10 | 0.68 | 10.68 | 10
Name change, corporate merger or transfer to heir/devisee | 175 | 11.95 | 186.95 | 185
Lease consolidation | 370 | 25.27 | 395.27 | 395
Lease renewal or exchange | 335 | 22.88 | 357.88 | 360
Lease reinstatement, Class I | 65 | 4.44 | 69.44 | 70
Leasing under right-of-way | 335 | 22.88 | 357.88 | 360
Geophysical exploration permit application—Alaska | 25 |  |  | ⁷ 25
Renewal of exploration permit—Alaska | 25 |  |  | ⁸ 25
Geothermal (part 3200):
Noncompetitive lease application | 335 | 22.88 | 357.88 | 360
Competitive lease application | 130 | 8.88 | 138.88 | 140
Assignment and transfer of record title or operating right | 75 | 5.12 | 80.12 | 80
Name change, corporate merger or transfer to heir/devisee | 175 | 11.95 | 186.95 | 185
Lease consolidation | 370 | 25.27 | 395.27 | 395
Lease reinstatement | 65 | 4.44 | 69.44 | 70
Nomination of lands | $00 plus $0.10 per acre nominated |  |  | ⁹ $100 plus $0.10 per acre nominated
Site license application | 50 | 3.42 | 53.42 | 55
Assignment or transfer of site license | 50 | 3.42 | 53.42 | 55
Coal (parts 3400, 3470):
License to mine application | 10 | 0.68 | 10.68 | 10
Exploration license application | 275 | 18.78 | 293.78 | 295
Lease or lease interest transfer | 55 | 3.76 | 58.76 | 60
Leasing of Solid Minerals Other Than Coal and Oil Shale (parts 3500, 3580):
Applications other than those listed below | 30 | 2.05 | 32.05 | 30
Prospecting permit application amendment | 55 | 3.76 | 58.76 | 60
Extension of prospecting permit | 90 | 6.15 | 96.15 | 95
Lease modification or fringe acreage lease | 25 | 1.71 | 26.71 | 25
Lease renewal | 430 | 29.37 | 459.37 | 460
Assignment, sublease, or transfer of operating rights | 25 | 1.71 | 26.71 | 25
Transfer of overriding royalty | 25 | 1.71 | 26.71 | 25
Use permit | 25 | 1.71 | 26.71 | 25
Shasta and Trinity hardrock mineral lease | 25 | 1.71 | 26.71 | 25
Renewal of existing sand and gravel lease in Nevada | 25 | 1.71 | 26.71 | 25
Multiple Use; Mining (Group 3700):
Notice of protest of placer mining operations | 10 | 0.68 | 10.68 | 10
Mining Law Administration (parts 3800, 3810, 3830, 3850, 3860, 3870)
Application to open lands to location | 10 | 0.68 | 10.68 | 10
Notice of location | 15 | 1.02 | 16.02 | 15
Amendment of location | 10 | 0.68 | 10.68 | 10
Transfer of mining claim/site | 10 | 0.68 | 10.68 | 10
Recording an annual FLPMA filing | 10 | 0.68 | 10.68 | 10
Deferment of assessment work | 90 | 6.15 | 96.15 | 95
Recording a notice of intent to locate mining claims on Stockraising Homestead Act lands | 25 | 1.71 | 26.71 | 25
Mineral patent adjudication | $2,520 (more than 10 claims) $1,260 (10 or fewer claims) | 172.12 86.06 | 2,692.12 1,346.06 | 2,690 1,345
Adverse claim | 90 | 6.15 | 96.15 | 95
Protest | 55 | 3.76 | 58.76 | 60
³ The Existing Fee was established by the 2005 cost recovery rulemaking, published October 7, 2005 (70 FR 58854), effective November 7, 2005.
⁴ From 4th Quarter 2004 (109.426), to 4th Quarter 2006 (116.895) the IPD-GDP increased by 6.83%. The value in the IPD-GDP Increase column is 6.83% of the Existing Fee.
⁵ The sum of the Existing Fee and IPD-GDP Increase is the New Value.
⁶ The New Fee for 2008 is the New Value rounded to the nearest $5.00.
⁷ As explained in footnote 1, above, the Energy Policy Act of 2005 (Pub. L. 109-58) prohibited certain fee increases that the BLM interpreted to apply to geophysical exploration permit applications. The $25 fee for geophysical exploration permit applications for Alaska pre-dated the 2005 cost recovery rule and was not affected by the Energy Policy Act prohibition. However, we interpret the provision quoted as prohibiting us from increasing this $25 fee.
⁸ We interpret the Energy Policy Act prohibition discussed in footnotes 1 and 6, above, as prohibiting us from increasing this $25 fee, as well.
⁹ The fee for nomination of lands under Part 3200 was added to the table by the final rule published on May 2, 2007 (72 FR 24400). Because the fee has been in effect for less than one year, we did not update it in this rulemaking.
Source for Implicit Price Deflator for Gross Domestic Product data: http://www.bea.gov/national/nipaweb/TableView.asp#Mid.

How Fees Are Adjusted

The figures in the “New Value” column in the table above, not those in the “New Fee” column, will be used in the future as the basis for calculating the annual adjustment to these fees. Because the new values are rounded to the nearest $5.00 in setting the new fees, future fees based on the figures in the “New Fee” column would become significantly over-or-under-valued over time. However, if the “New Value” column is blank because the fee was not updated in this rulemaking, future adjustments will be based on the figures in the “New Fee” column. Adjustments to future fees will be made by multiplying the annual change in the IPD-GDP by the reported New Value in the previous year's rulemaking. This calculation will define a new value for that year, which will then be rounded to the nearest $5.00 to establish the new adjusted fee.

Procedural Matters

Regulatory Planning and Review (Executive Order 12866). This document is not a significant rule and the Office of Management and Budget has not reviewed this rule under Executive Order 12866. We have made the assessments required by E.O. 12866 and the results are given below.

The BLM has determined that the rule will not have an annual effect on the economy of $100 million or more. It will not adversely affect in a material way the economy, a sector of the economy, productivity, competition, jobs, the environment, public health or safety, or state, local, or Tribal governments or communities. This determination is based on the analysis that the BLM prepared in conjunction with the 2005 final rule. For instructions on how to view a copy of the analysis, please contact one of the persons listed in the FOR FURTHER INFORMATION CONTACT section, above.

This rule will not create inconsistencies or otherwise interfere with an action taken or planned by another agency. This rule does not change the relationships of the onshore minerals programs with other agencies' actions. These relationships are included in agreements and memoranda of understanding that would not change with this rule.

In addition, this final rule does not materially affect the budgetary impact of entitlements, grants, loan programs, or the rights and obligations of their recipients. This rule does apply an inflation factor that increases some existing user fees for processing documents associated with the onshore minerals programs. However, these fee increases are less than 7% and do not materially affect the budgetary impact of user fees.

Finally, this rule will not raise novel legal issues. As explained above, this rule simply implements a process to account for inflation that was proposed and explained in the 2005 cost recovery rule.

The Regulatory Flexibility Act. This final rule will not have a significant economic effect on a substantial number of small entities as defined under the Regulatory Flexibility Act (5 U.S.C. 601 et seq.). A Regulatory Flexibility Analysis is not required. Accordingly, a Small Entity Compliance Guide is not required. For the purposes of this section, a small entity is defined by the Small Business Administration (SBA) for mining (broadly inclusive of metal mining, coal mining, oil and gas extraction, and the mining and quarrying of nonmetallic minerals) as an individual, limited partnership, or small company considered to be at arm's length from the control of any parent companies, with fewer than 500 employees. The SBA defines a small entity differently, however, for leasing Federal land for coal mining. A coal lessee is a small entity if it employs not more than 250 people, including people working for its affiliates. The SBA would consider many, if not most, of the operators the BLM works with in the onshore minerals programs to be small entities. The BLM notes that this final rule does not affect service industries, for which the SBA has a different definition of “small entity.”

The final rule will affect a large number of small entities since nearly all of them will face fee increases for activities on public lands. However, we have concluded that the effects will not be significant. The average increase in the fixed fees will be less than 7 percent as a result of this final rule. The adjustments result in no increase in the fee for processing of eight documents relating to the BLM's minerals programs. The highest adjustment is for mineral patent adjudications involving more than 10 mining claims, which will be increased by $170.00. For the 2005 final rule, the BLM completed a threshold analysis which is available for public review in the administrative record for that rule. (For instructions on how to view a copy of that analysis, please contact one of the persons listed in the FOR FURTHER INFORMATION CONTACT section, above.) The analysis for the 2005 rule concluded that the fees would not have a significant economic effect on a substantial number of small entities.

The Small Business Regulatory Enforcement Fairness Act. This final rule is not a “major rule” as defined at 5 U.S.C. 804(2). The final rule will not have an annual effect on the economy greater than $100 million; it will not result in major cost or price increases for consumers, industries, government agencies, or regions; and it will not have significant adverse effects on competition, employment, investment, productivity, innovation, or the ability of U.S.-based enterprises to compete with foreign-based enterprises. For the 2005 final rule, which established the fee adjustment procedure that this rule implements, the BLM completed a threshold analysis, which is available for public review in the administrative record for that rule.

Executive Order 13132, Federalism. The proposed rule will not have a substantial direct effect on the states, on the relationship between the national government and the states, or on the distribution of power and responsibilities among the various levels of government. In accordance with Executive Order 13132, the final rule does not have significant Federalism effects. A Federalism assessment is not required.

The Paperwork Reduction Act of 1995. These regulations contain information collection requirements. As required by the Paperwork Reduction Act of 1995 (44 U.S.C. 3501 et seq.), we submitted a copy of the proposed information collection requirements to the Office of Management and Budget (OMB) for review. The OMB approved the information collection requirements under the following Control Numbers:

Oil and Gas

(1) 1004-0034 which expires April 30, 2009;

(2) 1004-0074 which expires December 31, 2009;

(3) 1004-0137 which expires July 31, 2010;

(4) 1004-0162 which expires February 28, 2009;

(5) 1004-0185 which expires July 31, 2009;

Geothermal

(6) 1004-0132 which expires July 31, 2010;

Coal

(7) 1004-0073 which expires March 31, 2010;

Mineral Materials

(8) 1004-0103 which expires March 31, 2008;

Mining Claims

(9) 1004-0025 which expires November 30, 2009;

(10) 1004-0114 which expires February 28, 2010; and

Leasing of Solid Minerals Other Than Oil Shale

(11) 1004-0121 which expires November 30, 2009.

Takings Implication Assessment (Executive Order 12630). As required by Executive Order 12630, the Department of the Interior has determined that this rule will not cause a taking of private property. No private property rights will be affected by a rule that merely reports changes in service fees. The Department therefore certifies that this final rule does not represent a governmental action capable of interference with constitutionally protected property rights.

Civil Justice Reform (Executive Order 12988). In accordance with Executive Order 12988, the BLM finds that this final rule will not unduly burden the judicial system and meets the requirements of Sections 3(a) and 3(b)(2) of the Executive Order.

The National Environmental Policy Act (NEPA). The BLM has determined that this final rule is administrative and involves only procedural changes addressing fee requirements. In promulgating this rule, the government is conducting routine and continuing government business of an administrative nature having limited context and intensity. Therefore, it is categorically excluded from environmental review under Section 102(2)(C) of NEPA, pursuant to 516 DM 2.3A and 516 DM 2, Appendix 1, Items 1.7 and 1.10. In addition, the final rule does not meet any of the 10 criteria for exceptions to categorical exclusions listed in 516 DM 2, Appendix 2.

Pursuant to Council on Environmental Quality regulations (40 CFR 1508.4) and the environmental policies and procedures of the Department of the Interior, the term “categorical exclusions” means categories of actions which do not individually or cumulatively have a significant effect on the human environment and which have been determined to have no such effect in procedures adopted by a Federal agency and therefore require neither an environmental assessment nor an environmental impact statement.

The Unfunded Mandates Reform Act of 1995. The BLM has determined that this proposed rule is not significant under the Unfunded Mandates Reform Act of 1995, 2 U.S.C. 1532, because it will not result in state, local, private sector, or tribal government expenditures of $100 million or more in any one year. This proposed rule will not significantly or uniquely affect small governments. Therefore, the BLM is not required to prepare a statement containing the information required by the Unfunded Mandates Reform Act (2 U.S.C. 1501 et seq.).

Consultation and Coordination with Indian Tribal Governments (Executive Order 13175). In accordance with Executive Order 13175, the BLM has determined that this proposed rule does not include policies that have tribal implications. A key factor is whether the rule would have substantial direct effects on one or more Indian tribes. The BLM has not found any substantial direct effects. Consequently, the BLM did not utilize the consultation process set forth in section 5 of the Executive Order.

Data Quality Act. In developing this rule, we did not conduct or use a study, experiment, or survey requiring peer review under the Data Quality Act (Pub. L. 106-554).

Effects on the Nation's Energy Supply (Executive Order 13211). In accordance with Executive Order 13211, the BLM has determined that this proposed rule is not likely to have a significant adverse effect on the supply, distribution, or use of energy. The distribution of or use of energy would not be unduly affected by this proposed rule.

Author

The principal authors of this rule are Stephen D. Salzman, Deputy Chief, Division of Fluid Minerals, assisted by the Division of Regulatory Affairs, Bureau of Land Management, and the Solicitor's Office.

List of Subjects:

43 CFR Part 3000

Public lands—mineral resources, Reporting and recordkeeping requirements.

43 CFR Part 3100

Government contracts, Mineral royalties, Oil and gas exploration, Public lands—mineral resources, Reporting and recordkeeping requirements, Surety bonds.

43 CFR Part 3150

Administrative practice and procedure, Alaska, Oil and gas exploration, Public lands—mineral resources, Reporting and recordkeeping requirements, Surety bonds.

43 CFR Part 3200

Geothermal energy, Government contracts, Mineral royalties, Public lands—mineral resources, Reporting and recordkeeping requirements, Surety bonds.

43 CFR Part 3500

Government contracts, Hydrocarbons, Mineral royalties, Mines, Phosphate, Potassium, Public lands—mineral resources, Reporting and recordkeeping requirements, Sodium, Sulfur, Surety bonds.

43 CFR Part 3580

Government contracts, Mineral royalties, Mines, Public lands—mineral resources, Recreation and recreation areas, Surety bonds.

43 CFR Part 3600

Public lands—mineral resources, Reporting and recordkeeping requirements.

43 CFR Part 3730

Administrative practice and procedure, Mines, Public lands—mineral resources, Reporting and recordkeeping requirements, Surety bonds.

43 CFR Part 3810

Mines, Public lands—mineral resources, Reporting and recordkeeping requirements.

43 CFR Part 3830

Mineral royalties, Mines, Public lands—mineral resources, Reporting and recordkeeping requirements.

C. Stephen Allred,
Assistant Secretary—Land and Minerals Management.

For reasons stated in the preamble, the Bureau of Land Management amends 43 CFR chapter II as follows:

PART 3000—MINERALS MANAGEMENT: GENERAL

1. The authority citation for part 3000 continues to read as follows:

Authority: 16 U.S.C. 3101 et seq.; 30 U.S.C. 181 et seq., 301-306, 351-359, and 601 et seq.; 31 U.S.C. 9701; 40 U.S.C. 471 et seq.; 42 U.S.C. 6508; 43 U.S.C. 1701 et seq.; and Pub. L. 97-35, 95 Stat. 357.

Subpart 3000—General

2. Revise the first sentence of § 3000.10(c) to read as follows:

§ 3000.10 What do I need to know about fees in general?

* * * * *

(c) Periodic adjustment. We will periodically adjust fees established in this subchapter according to change in the Implicit Price Deflator for Gross Domestic Product, which is published quarterly by the U.S. Department of Commerce. * * *

* * * * *

3. Revise § 3000.12(a) to read as follows:

§ 3000.12 What is the fee schedule for fixed fees?

(a) The table in this section shows the fixed fees that you must pay to BLM for the services listed for Fiscal Year 2008. These fees are nonrefundable and must be included with documents you file under this chapter. Fees will be adjusted annually according to the change in the Implicit Price Deflator for Gross Domestic Product (IPD-GDP) by way of publication of a final rule in the Federal Register and will subsequently be posted on the BLM Web site (http://www.blm.gov) before October 1 each year. Revised fees are effective each year on October 1.

FY 2008 Processing and Filing Fee Table
Document/action | Fee
(1) Oil and Gas (parts 3100, 3110, 3120, 3130, 3150):
Noncompetitive lease application | $360
Competitive lease application | 140
Assignment and transfer of record title or operating rights | 80
Overriding royalty transfer, payment out of production | 10
Name change, corporate merger, or transfer to heir/devisee | 185
Lease consolidation | 395
Lease renewal or exchange | 360
Lease reinstatement, Class I | 70
Leasing under right-of-way | 360
Geophysical exploration permit application—Alaska | 25
Renewal of exploration permit—Alaska | 25
(2) Geothermal (part 3200):
Noncompetitive lease application | 360
Competitive lease application | 140
Assignment and transfer of record title or operating rights | 80
Name change, corporate merger or transfer to heir/devisee | 185
Lease consolidation | 395
Lease reinstatement | 70
Nomination of lands | $100 plus $0.10 per acre of lands nominated.
Site license application | 55
Assignment or transfer of site license | 55
(3) Coal (parts 3400, 3470):
License to mine application | 10
Exploration license application | 295
Lease or lease interest transfer | 60
(4) Leasing of Solid Minerals Other Than Coal and Oil Shale (parts 3500, 3580):
Applications other than those listed below | 30
Prospecting permit application amendment | 60
Extension of prospecting permit | 95
Lease modification or fringe acreage lease | 25
Lease renewal | 460
Assignment, sublease, or transfer of operating rights | 25
Transfer of overriding royalty | 25
Use permit | 25
Shasta and Trinity hardrock mineral lease | 25
Renewal of existing sand and gravel lease in Nevada | 25
(5) Multiple Use; Mining (part 3730):
Notice of protest of placer mining operations | 10
(6) Mining Law Administration (parts 3800, 3810, 3830, 3850, 3860, 3870):
Application to open lands to location | 10
Notice of location* | 15
Amendment of location | 10
Transfer of mining claim/site | 10
Recording an annual FLPMA filing | 10
Deferment of assessment work | 95
Recording a notice of intent to locate mining claims on Stockraising Homestead Act lands | 25
Mineral patent adjudication | 2,690 (more than 10 claims). 1,345 (10 or fewer claims).
Adverse claim | 95
Protest | 60
* To record a mining claim or site location, you must pay this processing fee along with the initial maintenance fee and the one-time location fee required by statute. (43 CFR part 3833)

* * * * *

PART 3100—OIL AND GAS LEASING

4. The authority citation for part 3100 continues to read as follows:

Authority: 30 U.S.C. 189 and 359; 43 U.S.C. 1732(b), 1733, and 1740; and the Energy Policy Act of 2005 (Pub. L. 109-58).

Subpart 3103—Fees, Rentals and Royalty

5. Amend § 3103.1-2 by revising paragraph (a)(1), to read as follows:

§ 3103.1-2 Where submitted.

(a)(1) All fees for lease applications or offers or for requests for approval of a transfer and all first-year rentals and bonuses for leases issued under Group 3100 of this title shall be paid to the proper BLM office.

* * * * *

PART 3150—ONSHORE OIL AND GAS GEOPHYSICAL EXPLORATION

6. The authority citation for part 3150 continues to read as follows:

Authority: 16 U.S.C. 3150(b) and 668dd; 30 U.S.C. 189 and 359; 42 U.S.C. 6508; 43 U.S.C. 1201, 1732(b), 1733, 1734, 1740.

Subpart 3152—Exploration in Alaska

7. Revise the undesignated text at the end of § 3152.1 to read as follows:

§ 3152.1 Application for oil and gas geophysical exploration permit.

* * * * *

Note to § 3152.1: Submit your application along with the filing fee for geophysical exploration permit—Alaska, found in the fee schedule in § 3000.12 of this chapter (except where the exploration operations are to be conducted on a leasehold by or on behalf of the lessee), to the District Manager of the proper BLM office.

8. Revise § 3152.3 to read as follows:

§ 3152.3 Renewal of exploration permit.

Upon application by the permittee and payment of the filing fee for renewal of exploration permit—Alaska, found in the fee schedule in section 3000.12 of this chapter (except where the exploration operations are to be conducted on a leasehold by or on behalf of the lessee), an exploration permit may be renewed for a period not to exceed one year.

PART 3200—GEOTHERMAL RESOURCE LEASING

9. The authority citation for part 3200 continues to read as follows:

Authority: 30 U.S.C. 1001-1028; 43 U.S.C. 1701 et seq.; and Pub. L. 109-58.

Subpart 3211—Filing and Processing Fees, Rent, Direct Use Fees, and Royalties

10. Amend § 3211.10 by removing the word “and” at the end of paragraph (a)(6), removing the period and adding a semicolon in its place at the end of paragraph (a)(7), and adding paragraphs (a)(8) and (9) to read as follows:

§ 3211.10 What are the processing and filing fees for leases?

(a) * * *

(8) Site license application; and

(9) Assignment or transfer of site license.

* * * * *

Subpart 3273—How to Apply for a Site License

11. Amend § 3273.15 by revising paragraph (c) to read as follows:

§ 3273.15 What must I include in my site license application?

* * * * *

(c) The filing fee for a site license application found in the fee schedule in § 3000.12 of this chapter;

* * * * *

12. Revise the second sentence of § 3273.26 to read as follows:

§ 3273.26 When may I assign or transfer my site license?

* * * Send BLM your completed and signed transfer application and the filing fee for assignment or transfer of site license found in the fee schedule in § 3000.12 of this chapter. * * *

PART 3500—LEASING OF SOLID MINERALS OTHER THAN COAL AND OIL SHALE

13. The authority citation for part 3500 continues to read as follows:

Authority: 5 U.S.C. 552; 30 U.S.C. 189 and 192c; 43 U.S.C. 1701 et seq.; and sec. 402, Reorganization Plan No. 3 of 1946 (5 U.S.C. appendix).

Subpart 3504—Fees, Rental, Royalty and Bonds

14. Revise § 3504.10 to read as follows:

§ 3504.10 What fees must I pay?

(a) The following table shows fees for various documents in this part.

Document | Processing fee
(1) Applications other than those listed below | As found in the fee schedule in § 3000.12 of this chapter.
(2) Prospecting permit application | Case-by-case basis as described in § 3000.11 of this chapter.
(3) Prospecting permit application amendment | As found in the fee schedule in § 3000.12 of this chapter.
(4) Prospecting permit extension | As found in the fee schedule in § 3000.12 of this chapter.
(5) Preference right lease application | Case-by-case basis as described in § 3000.11 of this chapter.
(6) Successful competitive lease application | Case-by-case basis as described in § 3000.11 of this chapter, and modified by §§ 3508.14 and 3508.21.
(7) Future or fractional interest lease application | Case-by-case basis as described in § 3000.11 of this chapter.
(8) Lease modification or fringe acreage lease | As found in the fee schedule in § 3000.12 of this chapter.
(9) Lease renewal application | As found in the fee schedule in § 3000.12 of this chapter.
(10) Assignment, sublease, or transfer of operating rights | As found in the fee schedule in § 3000.12 of this chapter.
(11) Transfer of overriding royalty | As found in the fee schedule in § 3000.12 of this chapter.
(12) Application to waive, suspend, or reduce your rental, minimum royalty, or royalty rate | Case-by-case basis as described in § 3000.11 of this chapter.
(13) Use permit | As found in the fee schedule in § 3000.12 of this chapter.

(b) Fees for exploration licenses are not administered under this section, but are administered under part 2920 of this chapter.

Subpart 3510—Noncompetitive Leasing: Fringe Acreage Leases and Lease Modifications

15. Amend § 3510.12 by revising the first sentence of paragraph (b) to read as follows:

§ 3510.12 What must I do to obtain a lease modification or fringe acreage lease?

* * * * *

(b) Include the filing fee for lease modification or fringe acreage lease found in the fee schedule in section 3000.12 of this chapter. * * *

* * * * *

Subpart 3512—Assignments and Subleases

16. Revise the first sentence of § 3512.12 to read as follows:

§ 3512.12 Is there a fee for requesting an assignment or sublease?

When you submit your instrument for assignment of record title or operating rights, or for transfer of overriding royalties, you must pay the filing fee for assignment, sublease, or transfer of operating rights found in the fee schedule in § 3000.12 of this chapter. * * *

17. Amend § 3512.13 by revising paragraph (a)(6)(iii) to read as follows:

§ 3512.13 How do I assign my permit or lease?

* * * * *

(a) * * *

(6) * * *

(iii) The filing fee for assignment, sublease, or transfer of operating rights found in the fee schedule in § 3000.12 of this chapter.

* * * * *

18. Amend § 3512.16 by revising paragraph (b) to read as follows:

§ 3512.16 How do I sublease my lease?

* * * * *

(b) The sublessee must also file a signed and dated request for approval and a statement of qualifications (see subpart 3502 of this part), and submit the filing fee for assignment, sublease, or transfer of operating rights found in the fee schedule in § 3000.12 of this chapter.

* * * * *

19. Amend § 3512.17 by revising paragraph (b) to read as follows:

§ 3512.17 How do I transfer the operating rights in my permit or lease?

* * * * *

(b) The transferee must also file a signed and dated request for approval and a statement of qualifications (see subpart 3502 of this part), and submit the filing fee for assignment, sublease, or transfer of operating rights found in the fee schedule in § 3000.12 of this chapter.

* * * * *

20. Revise the last sentence of § 3512.19 to read as follows:

§ 3512.19 Must I notify the BLM if I intend to transfer an overriding royalty to another party?

* * * Include the transferee's statement of qualifications required in subpart 3502 and the filing fee for transfer of overriding royalty found in the fee schedule in § 3000.12 of this chapter.

Subpart 3516—Use Permits

21. Revise the third sentence of § 3516.15 to read as follows:

§ 3516.15 How do I apply for a use permit?

* * * Include the filing fee for a use permit found in the fee schedule in § 3000.12 of this chapter and the first year's rental. * * *

PART 3580—SPECIAL LEASING AREAS

22. The authority citation for part 3580 continues to read as follows:

Authority: 16 U.S.C. 90c-1, 460n-5, 460q-5, 460dd-2, 460mm-4; 30 U.S.C. 189, 293, 359; 31 U.S.C. 9701; 43 U.S.C. 1201, 1732(b), 1733, 1740; 47 Stat. 1487.

Subpart 3583—Shasta and Trinity Units of the Whiskeytown-Shasta-Trinity National Recreation Area

23. Revise the last sentence of § 3583.3 to read as follows:

§ 3583.3 Applications for hardrock mineral leases.

* * * Each application must be filed in triplicate in the proper BLM office and must be accompanied by the filing fee for Shasta and Trinity hardrock mineral leases found in the fee schedule in § 3000.12 of this chapter.

Subpart 3586—Sand and Gravel in Nevada

24. Revise the second sentence of section 3586.2 to read as follows:

§ 3586.2 Existing leases.

* * * An application for renewal must be filed in triplicate in the proper BLM office within 90 days prior to the expiration of the lease term and be accompanied by the filing fee for renewal of existing sand and gravel leases in Nevada found in the fee schedule in § 3000.12 of this chapter. * * *

PART 3600—MINERAL MATERIALS DISPOSAL

25. The authority citation for part 3600 continues to read as follows:

Authority: 30 U.S.C. 601 et seq.; 43 U.S.C. 1201, 1701 et seq.; Sec. 2, Act of September 28, 1962 (Pub. L. 87-713, 76 Stat. 652).

Subpart 3602—Mineral Materials Sales

26. Amend § 3602.11 by revising the first sentence of paragraph (c) to read as follows:

§ 3602.11 How do I request a sale of mineral materials?

* * * * *

(c) You must pay a processing fee as provided in §§ 3602.31(b) and 3602.44(f). * * *

PART 3730—PUBLIC LAW 359; MINING IN POWERSITE WITHDRAWALS: GENERAL

27. The authority citation for part 3730 continues to read as follows:

Authority: 30 U.S.C. 22 et seq.; 30 U.S.C. 28f-k; 30 U.S.C. 621-625; 43 U.S.C. 1201; 43 U.S.C. 1740; 43 U.S.C. 1744.

Subpart 3736—Mining Operations

28. Amend § 3736.2 by revising the second sentence of paragraph (b) to read as follows:

§ 3736.2 Hearing; notice of protest.

* * * * *

(b) * * * Such notice, accompanied by the filing fee for notice of protest of placer mining operations found in the fee schedule in § 3000.12 of this chapter, must contain the party's name and address and a statement showing the nature of the party's interest in the use of the lands embraced within the mining claim. * * *

* * * * *

PART 3810—LANDS AND MINERALS SUBJECT TO LOCATION

29. The authority citation for part 3810 continues to read as follows:

Authority: 30 U.S.C. 22 et seq.; 43 U.S.C. 1201 and 1740.

Subpart 3816—Mineral Locations in Reclamation Withdrawals

30. Revise the last sentence of § 3816.2 to read as follows:

§ 3816.2 Application to open lands to location.

* * * Each application must be accompanied by the filing fee for application to open lands to location found in the fee schedule in § 3000.12 of this chapter.

PART 3830—LOCATING, RECORDING, AND MAINTAINING MINING CLAIMS OR SITES; GENERAL PROVISIONS

31. The authority citation for part 3830 continues to read as follows:

Authority: 18 U.S.C. 1001, 3571; 30 U.S.C. 22 et seq., 242, 611; 31 U.S.C. 9701; 43 U.S.C. 2, 1201, 1212, 1457, 1474, 1701 et seq. ; 44 U.S.C. 3501 et seq.; 115 Stat. 414.

Subpart D—BLM Service Charge and Fee Requirements

32. Amend § 3830.21 by revising paragraph (h) to read as follows:

§ 3830.21 What are the different types of service charges and fees?

* * * * *

(h) Recording a notice of intent to locate mining claims on Stockraising Homestead Act Lands (part 3838) | The filing fee for recording a notice of intent to locate mining claims on Stockraising Homestead Act Lands found in the fee schedule in § 3000.12 of this chapter | No.

[FR Doc. E7-17375 Filed 9-4-07; 8:45 am]

BILLING CODE 4310-84-P